DEPARTMENT OF ENERGY

Federal Energy Regulatory Commission

[Docket No. RP03-273-001]

Transcontinental Gas Pipe Line Corporation; Notice of Compliance Filing

March 13, 2003.

Take notice that on March 7, 2003, Transcontinental Gas Pipe Line Corporation (Transco) tendered for filing as part of its FERC Gas Tariff, Third Revised Volume No. 1, Substitute Seventeenth Revised Sheet No. 44, with an effective date of April 1, 2003.

Transco states that the filing is being submitted to supplement Transco's Fuel Tracker filing of February 28, 2003, which inadvertently reflected an incorrect calculation of the Commodity Fuel Dt-Miles and The Commodity Volume Traversing Zones included in the calculation of the system transportation fuel retention percentages by zone. The result of the revised calculation of the system transportation fuel retention percentages is an increase in Zone 4A from 0.42% to 0.43% and Zone 5 from 1.19% to 1.20%.

Transco states that copies of the filing are being mailed to its affected customers and interested state commissions.

Any person desiring to protest said filing should file a protest with the Federal Energy Regulatory Commission, 888 First Street, NE., Washington, DC 20426, in accordance with section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 19, 2003.

Magalie R. Salas,
Secretary.

[FR Doc. 03-6600 Filed 3-18-03; 8:45 am]

BILLING CODE 6717-01-P